DEPARTMENT OF DEFENSE

Department of the Army; Corps of Engineers

Intent To Prepare an Environmental Impact Statement for Homer Harbor Navigation Improvements Feasibility Study

AGENCY: Department of the Army, U.S. Army Corps of Engineers, DoD.

ACTION: Notice of intent.

SUMMARY: The U.S. Army Corps of Engineers (USACE) announces its intention to prepare an Environmental Impact Statement (EIS) to study the feasibility of expanding the existing moorage capacity for vessels at Homer, AK. This study will be performed through partnership of USACE, the City of Homer, and the Alaska Department of Transportation and Public Facilities. The existing moorage condition at Homer is at maximum capacity, resulting in overcrowded and unsafe conditions for harbor users. Additionally, the City will be unable to meet the growing moorage demands of commercial, Government, recreation, and subsistence vessels in the near future. The EIS will address potential environmental impacts of the construction, operation, and maintenance of the new and existing harbor. USACE will hold public scoping meetings in Homer, AK.

DATES: The location, date, and time for the first scoping meeting will be as follows: Homer, AK: Thursday, September 6, 2007, from 1-6 p.m. at the Alaska Islands and Ocean Visitor Center. Subsequent meetings will be advertised in the Homer News and Homer Tribune.

ADDRESSES: Please direct comments or suggestions on the scope of the EIS to: Ms. Lisa Rabbe, NEPA Coordinator, U.S. Army Corps of Engineers, Alaska District, EN-CW-ER, P.O. Box 6898, Elmendorf AFB, AK 99506-0898; Phone: 907-753-2634; Fax: (907) 753-2625, e-mail Lisa.a.rabbe@poa02.usace.army.mil (please use “NOI Comments on Homer Harbor” for the subject).

FOR FURTHER INFORMATION CONTACT: For information or questions concerning the proposed project, contact: Mr. Pat Fitzgerald, Study Manager, U.S. Army Corps of Engineers, Alaska District, EN-CW-PF, P.O. Box 6898, Elmendorf AFB, AK 99506-0898; Phone: 907-753-5638; Fax: (907) 753-2625; e-mail: patrick.s.fitzgerald@usace.army.mil.

SUPPLEMENTARY INFORMATION:

Background

The City of Homer was established in 1964. The Homer Harbor was initially constructed in 1961 and was expanded to its existing configuration in 1984. The harbor accommodates a large array of commercial, Government, recreation, and subsistence vessels.

Purpose and Need for Agency Action

The City of Homer needs to expand the existing harbor to a more efficient and safe harbor for navigation and mooring for its users. The existing Homer Harbor is utilized beyond its capacity. The harbor is not able to appropriately accommodate the needs of some of the larger commercial fishing vessels. Overcrowding of large vessels often results in increased damages to the vessels and docks. Overcrowding is also a problem for smaller commercial fishing, charter, and recreational vessels that use Homer Harbor. Additionally, the depths within the harbor are inadequate for these larger vessels on lower tides, which can result in vessel delays.

In addition, the U.S. Coast Guard and other federal and state vessels do not have adequate security for their vessels at their individual piers. A common area for state and federal vessels will decrease the administrative and personnel burdens for security measures needed to protect the vessels.

Operators of larger vessels have expressed that they would be interested in using Homer Harbor on a longer term basis if it were not as crowded and suitable moorage were available. Many of these operators are known to travel back to the Pacific Northwest for moorage. If suitable moorage were available in Homer, they could save the costs of the trip back to the Pacific Northwest. There is an opportunity to save operating costs, damages, and opportunity costs of time for crews of these vessels by providing additional protected moorage at Homer.

The USACE authority to conduct this study is provided by the “Rivers and Harbors in Alaska” study resolution adopted by the U.S. House of Representatives Committee on Public Works on December 2, 1970.

This EIS will assess the potential environmental impacts of constructing, operating, maintaining an expanded and/or new harbor as well as other reasonable alternatives. The EIS will aid decision making on the Homer Harbor study by evaluating the environmental impacts of the range of reasonable alternatives, as well as providing a means for public input into the decision making process. USACE is committed to ensuring that the public has ample opportunity to participate in this review.

Preliminary Alternatives

Consistent with NEPA implementation requirements, this EIS will assess the range of reasonable alternatives regarding constructing, operating, and maintaining the proposed Homer Harbor project. The following preliminary list of alternatives is subject to modification in response to comments received during the public scoping process.

Alternative 1: North Harbor Site. This harbor would be constructed on the east side of the spit between the existing Homer Harbor and the ADF&G fishing hole. Rubble mound breakwaters would be necessary for wave protection. Significant dredging would be required for the mooring basin and entrance channel and the project would likely require extensive annual dredging.

Alternative 2: East Harbor Site (Preferred Alternative). This site is on the Kachemak Bay side of the upland staging area created when the harbor was expanded in 1984. This site avoids the need for a long entrance channel by placing the new basin in naturally deep waters. Dredging of the mooring basin and entrance channel would be required.

Alternative 3: Harbor Expansion. This alternative includes expansion of the existing harbor by dredging and excavating a portion of the existing 30-acre staging area adjacent to the harbor. No new breakwaters would be required. This excavation would eliminate vital uplands on the Homer Spit. These areas of uplands are currently used as a parking and staging area, location of the U.S. Coast Guard buildings, and are integral to the movement of goods delivered from vessels at the City's deep water dock.

No Action Alternative: Under the “no action” alternative, the Homer Harbor would continue the “status quo” and over time become more crowded and safety issues would elevate. Where applicable under the alternatives listed above, disposal options, such as deep sea dumping, shoreline dumping, offsite dumping, will be considered for each alternative. Further, USACE would appreciate comments regarding whether there are additional siting alternatives for the Homer Harbor that should be considered.

Identification of Environmental and Other Issues

USACE intends to address the following environmental issues when assessing the potential environmental impacts of the alternatives in this EIS. Additional issues may be identified as a result of the scoping process. USACE invites comment from the Federal agencies, Native American tribes, State and local governments, and the general public on these and any other issues that should be considered in the EIS:

• Potential impacts on health from the Homer Harbor project include: Potential impacts to workers during the construction of the facilities.

• Potential impacts to surface water, tidelands and fauna include turbidity from construction activities.

• Potential impacts on air quality from emissions and from noise during harbor construction and operations.

• Potential cumulative impacts of the past, present, and reasonably foreseeable future actions include impacts resulting from activities of the U.S. Coast Guard and commercial operations.

• Potential impacts to historically significant properties, if present, and on access to traditional use areas.

• Potential impacts on local, regional, or national resources from materials and utilities required for construction and operation.

• Potential impacts on ecological resources, including threatened and endangered species and water quality.

• Potential impacts on local employment, income, population, housing, and public services from harbor construction and operations.

NEPA Process

The EIS for the proposed project will be prepared pursuant to the NEPA of 1969 (42 U.S.C. 4321 et seq.), Council on Environmental Quality NEPA Regulations (40 CFR parts 1500-1508), and USACE's NEPA Implementing Procedures (33 CFR parts 230 and 325). Following the publication of this Notice of Intent, USACE will hold scoping meetings, prepare and distribute the draft EIS for public review, hold public hearings to solicit public comment on the draft EIS, and publish a final EIS. Not less than 30 days after the publication of the U.S. Environmental Protection Agency's Notice of Availability of the final EIS, USACE may issue a Record of Decision (ROD) documenting its decision concerning the proposed action.

Scoping Meetings

The purpose of this Notice is to encourage early public involvement in the EIS process and to solicit public comments on the proposed scope of the EIS, including the issues and alternatives it would analyze. USACE invites public comments on the proposed scope of the Homer Harbor Project EIS. To ensure consideration, comments must be postmarked by October 30, 2007. Late comments will be considered to the extent practicable. Public meetings will be held in Homer, AK and will provide the public with an opportunity to present comments on the scope of the EIS and to ask questions and discuss concerns with USACE officials regarding the EIS. USACE will hold public scoping meetings in Homer, AK (see DATES) to solicit both oral and written comments from interested parties. Oral and written comments will be considered equally in the preparation of the EIS. The scoping meetings will not be conducted as evidentiary hearings. During at least the first hour of each scoping meeting, USACE officials will be available for informal discussions with attendees. During the formal part of the meeting, the public will have the opportunity to provide comments orally or in writing. The presiding officer will establish procedures to ensure that everyone who wishes to speak has a chance to do so. In addition, the presiding officer may set a time limit for each speaker. Comment cards will also be available for those who would prefer to submit written comments. The EIS will also contain a section summarizing the nature of the comments received during the scoping process and describing any modification to the scope of the EIS in response to the scoping process comments.

EIS Schedule

The draft EIS is scheduled to be published by June 2009. A 45-day comment period on the draft EIS is planned, which will include public meetings to receive oral comments. Availability of the draft EIS, the dates of the public comment period, and information about the public hearings will be announced in the Federal Register and in the local news media.

The final EIS for the Homer Harbor project is scheduled for January 2010. A ROD would be issued no sooner than 30 days after the U.S. Environmental Protection Agency notice of availability of the final EIS is published in the Federal Register.

Brenda S. Bowen,
Army Federal Register Liaison Officer.

[FR Doc. E7-16796 Filed 8-23-07; 8:45 am]

BILLING CODE 3710-NL-P